DEPARTMENT OF TRANSPORTATION

National Highway Traffic Safety Administration

49 CFR Part 595

[Docket No. NHTSA-2016-0031]

RIN 2127-AL67

Make Inoperative Exemptions; Vehicle Modifications To Accommodate People With Disabilities, Roof Crush Resistance

AGENCY: National Highway Traffic Safety Administration (NHTSA), Department of Transportation (DOT).

ACTION: Notice of proposed rulemaking (NPRM).

SUMMARY: This NPRM proposes to amend 49 CFR part 595, subpart C, “Make Inoperative Exemptions, Vehicle Modifications to Accommodate People With Disabilities,” to include a new exemption relating to the Federal motor vehicle safety standard for roof crush resistance. The exemption would facilitate the mobility of physically disabled drivers and passengers. This document responds to a petition from Autoregs Consulting, Inc. on behalf of The National Mobility Equipment Dealers Association.

DATES: You should submit your comments early enough to ensure that the Docket receives them not later than May 10, 2016.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

For access to the docket to read background documents or comments received, go to http://www.regulations.gov or the street address listed above. Follow the online instructions for accessing the dockets.

FOR FURTHER INFORMATION CONTACT: Christopher J. Wiacek, NHTSA Office of Crash Avoidance Standards, NVS-122 (telephone 202-366-4801) (fax 202-493-2739), or Jesse Chang, NHTSA Office of Chief Counsel, NCC-112 (telephone 202-366-2992) (fax 202-366-3820). The mailing address for these officials is: National Highway Traffic Safety Administration, 1200 New Jersey Avenue SE., Washington, DC 20590.

SUPPLEMENTARY INFORMATION:

I. Background

The National Traffic and Motor Vehicle Safety Act (49 U.S.C. chapter 301) (“Safety Act”) and NHTSA's regulations require vehicle manufacturers to certify that their vehicles comply with all applicable Federal motor vehicle safety standards (FMVSSs) (see 49 U.S.C. 30112; 49 CFR part 567). A vehicle manufacturer, distributor, dealer, or repair business generally may not knowingly make inoperative any part of a device or element of design installed in or on a motor vehicle in compliance with an applicable FMVSS (see 49 U.S.C. 30122). NHTSA has the authority to issue regulations that exempt regulated entities from the “make inoperative” provision (49 U.S.C. 30122(c)). The agency has used that authority to promulgate 49 CFR part 595 subpart C, “Make Inoperative Exemptions, Vehicle Modifications to Accommodate People with Disabilities.”

49 CFR part 595 subpart C sets forth exemptions from the make inoperative provision to permit, under limited circumstances, vehicle modifications that take the vehicles out of compliance with certain FMVSSs when the vehicles are modified to be used by persons with disabilities after the first retail sale of the vehicle for purposes other than resale. The regulation was promulgated to facilitate the modification of motor vehicles so that persons with disabilities can drive or ride in them. The regulation involves information and disclosure requirements and limits the extent of modifications that may be made.

Under the regulation, a motor vehicle repair business that modifies a vehicle to enable a person with a disability to operate or ride as a passenger in the motor vehicle and that avails itself of the exemption provided by 49 CFR part 595 subpart C must register with NHTSA. The modifier is exempted from the make inoperative provision of the Safety Act, but only to the extent that the modifications affect the vehicle's compliance with the FMVSSs specified in 49 CFR 595.7(c) and only to the extent specified in § 595.7(c). Modifications that would take the vehicle out of compliance with any other FMVSS, or with an FMVSS listed in § 595.7(c) but in a manner not specified in that paragraph are not exempted by the regulation. The modifier must affix a permanent label to the vehicle identifying itself as the modifier and the vehicle as no longer complying with all FMVSS in effect at original manufacture, and must provide and retain a document listing the FMVSSs with which the vehicle no longer complies and indicating any reduction in the load carrying capacity of the vehicle of more than 100 kilograms (220 pounds).

II. FMVSS No. 216 “Roof Crush Resistance” and Part 595

On May 12, 2009, as part of a comprehensive plan for reducing the serious risk of rollover crashes and the risk of death and serious injury in those crashes, NHTSA published in the Federal Register (74 FR 22348) a final rule substantially upgrading the roof crush resistance requirements by adopting new provisions in Federal Motor Vehicle Safety Standard (FMVSS) No. 216, Roof Crush Resistance. During the rulemaking, our analysis showed that roof strength is relevant to about seven percent (about 667) of the rollover crash fatalities each year. We estimated that the May 2009 rule would prevent 135 of those 667 fatalities. In summary, the final rule established the following main provisions.

(1) For the vehicles currently subject to the standard, i.e., passenger cars and multipurpose passenger vehicles, trucks and buses with a Gross Vehicle Weight Rating (GVWR) of 2,722 kilograms (6,000 pounds) or less, the rule doubled the amount of force the vehicle's roof structure must withstand in the specified test, from 1.5 times the vehicle's unloaded weight to 3.0 times the vehicle's unloaded weight. We note that this value is sometimes referred to as the strength-to-weight ratio (SWR), e.g., a SWR of 1.5, 2.0, 2.5, and so forth.

(2) The rule extended the applicability of the standard so that it will also apply to vehicles with a GVWR greater than 2,722 kilograms (6,000 pounds), but not greater than 4,536 kilograms (10,000 pounds). The rule established a SWR of 1.5 times for these vehicles.

(3) The rule required all applicable vehicles to meet the specified force requirements in a two-sided test, an upgrade from the existing single-sided test, i.e., the same vehicle must meet the force requirements when tested first on one side and then on the other side of the vehicle prior to 127 mm of roof crush.

(4) The rule established a new requirement for maintenance of headroom, i.e., survival space, during testing in addition to the existing limit on the amount of roof crush.

As the agency was conscious of the fact that some vehicles are built in multiple stages, the rule provided an option for alterers and multi-stage (final stage) manufacturers (who complete or add raised roofs to vehicles prior to first retail sale) to certify to the school bus rollover protection requirements (FMVSS No. 220) instead. This option is available to manufacturers of vehicles with a GVWR greater than 2,722 kilograms (6,000 pounds), but not greater than 4,536 kilograms (10,000 pounds), except those built on chassis-cab incomplete vehicles.

While the option to certify to the requirements in FMVSS No. 220 is available to manufacturers that alter vehicles prior to first sale, modifiers are prohibited from making similar changes to a vehicle (originally certified to meet FMVSS No. 216a) after first sale (due to the aforementioned make-inoperative prohibition in section 30122 of the Motor Vehicle Safety Act). Further, 49 CFR part 595 does not currently provide for an exemption from FMVSS No. 216 for modifiers that raise the roof on vehicles to accommodate people with disabilities.

III. Petition for Rulemaking

On January 21, 2013, Autoregs Consulting, Inc. (Autoregs) on behalf of The National Mobility Equipment Dealers Association (NMEDA) submitted a petition for rulemaking to amend § 595.7 to include an exemption from certain requirements of FMVSS No. 216. In its petition, Autoregs requested flexibility to allow modifiers to replace a vehicle's original roof after first sale with a raised or altered roof to accommodate the needs of persons with disability. Instead of complying with those requirements of FMVSS No. 216, the Petitioner states that modifiers should be afforded the same option (as alterers and multistage manufacturers—who alter vehicles prior to first sale) of installing a roof system that complies with the requirements of FMVSS No. 220, School bus rollover protection.

Autoregs explained that raising the roof of a vehicle is an everyday manufacturing operation for hundreds of NMEDA members, most of which are modifiers of vehicles with a GVWR greater than 2,722 kilograms (6,000 pounds), but not greater than 4,536 kilograms (10,000 pounds). Autoregs further asserts there is a need for modifiers to raise the roofs of vehicles after first sale to meet the special needs of consumers with disabilities. Autoregs explained that in many cases a consumer will purchase a vehicle, usually over 2,722 kilograms (6,000 pounds) GVWR and then approach a modifier to have a roof raised. Generally, customers ask to raise the roof 30.5 to 35.6 centimeters (14 to 16 inches) to suit their special needs. In other cases, a public agency or independent transportation company will purchase a vehicle to have the roof raised to provide public transportation for special needs citizens. They state that the make-inoperative prohibition and upgraded FMVSS No. 216 makes it impossible for such modifiers to provide transportation that accommodates those individuals who need a vehicle with a raised roof to drive or to access public transportation due to a disability.

While modifiers would have difficultly ensuring the modified roof continues to meet the performance specified in FMVSS No. 216, the Petitioner stated that such modifiers are able to change the roof structures of these vehicles in a way so as to accommodate the needs of persons with disabilities while still providing some roof strength protection to the vehicle occupants. Instead of adhering to the upgraded requirements of FMVSS No. 216, the petitioner states that such modifiers are able to ensure that a vehicle with the modified roof structure would meet the requirements of FMVSS No. 220.

Prior to the upgrade to FMVSS No. 216, NMEDA had tested and provided consortium test and installation instruction to its members for a tubular structure, or roll cage, to comply with the requirements in FMVSS No. 220. NMEDA conducted this testing mainly because they believed that FMVSS No. 220 is a comparatively simpler test and the roll cage is less expensive to install. However, after the FMVSS No. 216 upgrade, a modifier that used the NMEDA roll cage would still be subject to the make-inoperative prohibition.

IV. Response to Petition

NHTSA tentatively agrees with the Petitioner and proposes to amend 49 CFR 595.7(c) and add an exemption to the upgraded roof strength requirements of FMVSS No. 216a. We also agree with the Petitioner and propose to condition this exemption on modifiers installing a new roof that would enable the vehicle to meet the performance requirements of FMVSS No. 220.

A. What are the mobility needs that require accommodation?

We tentatively agree with the Petitioner that there is a need to accommodate persons with special mobility needs in this situation and the new FMVSS No. 216 prevents vehicle modifiers from doing so. To accommodate those with disabilities, a vehicle's roof may have to be raised. Prior to the 2009 upgrade to FMVSS No. 216, the vast majority of the vehicles being modified for this purpose did not have to comply with any roof crush requirements because they were vehicles with a GVWR between 2,722 kilograms (6,000 pounds) and 4,536 kilograms (10,000 pounds). Thus, prior to the 2009 upgrade, modifiers could replace the roof of such a vehicle to accommodate a person with special mobility needs without making inoperative any equipment installed in compliance with FMVSS No. 216.

While, such vehicles now have requirements under FMVSS No. 216, the need to accommodate such persons remains. A raised roof makes it easy for someone to enter the van seated in a wheelchair or for a personal care attendant to tend to them or walk in and out of the entrance. Doors may be raised in conjunction with a roof to enable a person in a wheelchair to enter without having to bend over or have a personal care attendant tilt the wheelchair back. Larger wheelchairs or motorized wheelchairs may also require modifications to the roof height to improve ingress and egress of the occupant. These modifications to the roof could take the vehicle out of compliance with the requirements of FMVSS No. 216.

B. Our Proposal To Accommodate This Need

We tentatively agree with the Petitioners that there is a need to provide an exemption in part 595 to the make inoperative prohibition for vehicles modified to accommodate persons with special mobility needs. We also tentatively agree with the Petitioners suggestion that FMVSS No. 220 is a viable alternative to ensure a minimum level of roof strength to protect the occupants of vehicles modified in this manner.

Similar to the rationale we expressed in the 2009 upgrade of FMVSS No. 216 for altered vehicles (e.g., vehicles with a roof raised prior to first sale), we believe that there are certain technical problems modifying a vehicle to incorporate a raised roof and ensure that the vehicle continues to meet the requirements of the upgraded FMVSS No. 216. For example, if a van is altered by replacing its roof with a taller roof surface and structure, this would change the location of the test device with respect to the original roof surface and structure. If a vehicle is modified and the roof is raised to the heights suggested by the Petitioner (i.e., 305 to 356 mm), the 127 mm of platen travel specified in the requirements would likely be exceed prior to the platen engaging the original vehicle's roof structure in the FMVSS No. 216 test.

We believe it would be difficult for modifiers (generally small businesses and subject to the differing needs of their customers) to raise the roof of a vehicle to these types of heights and ensure that the vehicle remains compliant with FMVSS No. 216 because the modified roof would require different testing for each variation of the roof modification. Given the small volume, variety of roof heights needed to accommodate different disabilities, and different vehicle models used for these modifications, we believe that there are substantial technical difficulties for designing a roof and structure that would enable a vehicle to continue to comply with FMVSS No. 216.

However, we currently believe that providing FMVSS No. 220 as an option for compliance is a more appropriate balance between the need to modify these vehicles to accommodate a person with a disability and our interest in ensuring a sufficient level of safety. With FMVSS No. 220, modifiers can use a whole raised roof that is designed to be installed on the vehicle. Further, such a raised roof could be applied to vehicles of varying height and would still be able to absorb the load of the platen in the FMVSS No. 220 test. As the Petitioner stated, such a roof structure (that can be applied to the variety of needed modifications and would enable the modified vehicle to meet FMVSS No. 220) has been designed and is available to modifiers. NMEDA developed the Raised Roof Manufacturing Guidelines ¹ which provide their members with roof structure designs and installation considerations such that the modified vehicle would meet the minimum load requirements in FMVSS No. 220.

¹ NMEDA, Raised Roof Manufacturing Guidelines—Ford E series GM/Chevrolet Savana/Express Model years 2008-2009-2010, Revision 2, January 19, 2010.

Further, as we stated in the 2009 upgrade to FMVSS No. 216, we believe that the requirements of FMVSS No. 220 offer a reasonable avenue for increasing safety in rollover crashes. We note that several states already require “para-transit” vans and other buses, which are typically manufactured in multiple stages, to comply with the roof crush requirements of FMVSS No. 220. These states include Pennsylvania, Minnesota, Wisconsin, Tennessee, Michigan, Utah, Alabama, and California. Further, our crash data continue to show that FMVSS No. 220 has been effective for protecting school buses during rollover crashes.

In addition, we believe that the strength requirements for FMVSS Nos. 216 and 220 are comparable—even though the test procedures differ. FMVSS No. 216 requires the roof to withstand a force that 1.5 times the unloaded vehicle weight of the vehicle when an angled plate (5 degree pitch forward and 25 degree rotation outward, along its lateral axis) is applied to the front corner of the roof over the occupant compartment on one side prior to 127 mm (5 inches) of plate travel or the roof makes contact with the head of seat 50th percentile dummy and repeated on the other side of the vehicle. The FMVSS No. 220 test uses a single horizontal platen over the whole roof of the vehicle to apply a load to the vehicle's roof. The standard requires the roof to withstand a force of 1.5 times the vehicle`s unloaded weight prior to 130 mm (5.1 inches) limit of platen travel.

Thus, we recognize the concerns raised by Autoregs on behalf of NMEDA for continued mobility for people with disabilities with respect to the new FMVSS No. 216 requirements and tentatively believe their request to allow modifiers the option of meeting the performance requirements of FMVSS No. 220 reasonable. The agency continues to believe the requirements of FMVSS No. 220 have been effective for school buses and allows it as an option for certain multi-stage vehicles when the new requirements of FMVSS No. 216 become effective in 2017. In the context of the Petitioner's request and the work NMEDA has conducted in developing Raised Roof Manufacturing Guidelines for its members, we believe FMVSS No. 220 offers a reasonable avenue to balance the practicability of modifying vehicles to accommodate persons with a disability and the need to increase safety in rollover crashes. We request comments on the proposed exemption.

V. Rulemaking Analyses and Notices

Executive Order 12866 and DOT Regulatory Policies and Procedures

NHTSA has considered the impact of this rulemaking action under E.O. 12866 and the Department of Transportation's regulatory policies and procedures. This rulemaking document was not reviewed by the Office of Management and Budget under E.O. 12866, “Regulatory Planning and Review.” It is not considered to be significant under E.O. 12866 or the Department's Regulatory Policies and Procedures (44 FR 11034; February 26, 1979). NHTSA has determined that the effects are so minor that a regulatory evaluation is not needed to support the subject rulemaking. This rulemaking would impose no costs on the vehicle modification industry.

Modifying a vehicle in a way that makes inoperative the performance of roof crush resistance could be detrimental for the occupants of the vehicle involved in a rollover crash. By allowing modifiers the option of designing a roof system to the school bus rollover test procedure and strength requirements there is essentially no known safety trade-off for persons with disabilities. The number of vehicles potentially modified would be also very few in number. The agency believes we have made the exemption narrow and conditioned on maintaining the integrity of the roof. This issue has also been discussed in the 2009 upgrade to the requirements of Standard No. 216. We have requested comments on how the agency may make the exemption as narrow as reasonably possible.

Regulatory Flexibility Act

Pursuant to the Regulatory Flexibility Act (5 U.S.C. 601 et seq., as amended by the Small Business Regulatory Enforcement Fairness Act (SBREFA) of 1996), whenever an agency is required to publish a notice of proposed rulemaking or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this proposed rule under the Regulatory Flexibility Act. Most dealerships and repair businesses are considered small entities, and a substantial number of these businesses modify vehicles to accommodate individuals with disabilities. I certify that this proposed rule would not have a significant economic impact on a substantial number of small entities. While most dealers and repair businesses would be considered small entities, the proposed exemption would not impose any new requirements, but would instead provide additional flexibility. Therefore, the impacts on any small businesses affected by this rulemaking would not be substantial.

Executive Order 13132 (Federalism)

NHTSA has examined today's proposed rule pursuant to Executive Order 13132 (64 FR 43255; Aug. 10, 1999) and concluded that no additional consultation with States, local governments, or their representatives is mandated beyond the rulemaking process. The agency has concluded that the proposed rule does not have sufficient federalism implications to warrant consultation with State and local officials or the preparation of a federalism summary impact statement. The proposal does not have “substantial direct effects on the States, on the relationship between the national government and the States, or on the distribution of power and responsibilities among the various levels of government.” This proposed rule would not impose any requirements on anyone. This proposal would lessen a burden on modifiers.

NHTSA rules can have preemptive effect in two ways. First, the National Traffic and Motor Vehicle Safety Act contains an express preemption provision stating that a State (or a political subdivision of a State) may prescribe or continue to enforce a standard that applies to an aspect of performance of a motor vehicle or motor vehicle equipment only if the standard is identical to the FMVSS governing the same aspect of performance. See 49 U.S.C. 30103(b)(1). This provision is not relevant to this rulemaking as it does not involve the establishing, amending or revoking of a Federal motor vehicle safety standard.

Second, the Supreme Court has recognized the possibility, in some instances, of implied preemption of State requirements imposed on motor vehicle manufacturers, including sanctions imposed by State tort law. We are unaware of any State law or action that would prohibit the actions that this proposed rule would permit.

Civil Justice Reform

When promulgating a regulation, agencies are required under Executive Order 12988 to make every reasonable effort to ensure that the regulation, as appropriate: (1) Specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

Pursuant to this Order, NHTSA notes as follows. The preemptive effect of this proposed rule is discussed above. NHTSA notes further that there is no requirement that individuals submit a petition for reconsideration or pursue other administrative proceeding before they may file suit in court.

National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.” Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards. No voluntary standards exist regarding this proposed exemption for modification of vehicles to accommodate persons with disabilities.

Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This proposed exemption would not result in expenditures by State, local or tribal governments, in the aggregate, or by the private sector in excess of $100 million annually.

National Environmental Policy Act

NHTSA has analyzed this rulemaking action for the purposes of the National Environmental Policy Act. The agency has determined that implementation of this action would not have any significant impact on the quality of the human environment.

Paperwork Reduction Act

Under the Paperwork Reduction Act of 1995 (PRA), a person is not required to respond to a collection of information by a Federal agency unless the collection displays a valid OMB control number. This proposal does not contain new reporting requirements or requests for information beyond what is already required by 49 CFR part 595 subpart C.

Plain Language

Executive Order 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Public Participation

How do I prepare and submit comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Comments may also be submitted to the docket electronically by logging onto the Docket Management System Web site at http://www.regulations.gov. Follow the online instructions for submitting comments.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit a copy, from which you have deleted the claimed confidential business information, to the docket at the address given above under ADDRESSES. When you send a comment containing information claimed to be confidential business information, you should include a cover letter setting forth the information specified in our confidential business information regulation. (49 CFR part 512.)

Will the agency consider late comments?

We will consider all comments received before the close of business on the comment closing date indicated above under DATES. To the extent possible, we will also consider comments that the docket receives after that date. If the docket receives a comment too late for us to consider in developing a final rule (assuming that one is issued), we will consider that comment as an informal suggestion for future rulemaking action.

How can I read the comments submitted by other people?

You may read the comments received by the docket at the address given above under ADDRESSES. The hours of the docket are indicated above in the same location. You may also see the comments on the Internet. To read the comments on the Internet, go to http://www.regulations.gov. Follow the online instructions for accessing the dockets.

Please note that even after the comment closing date, we will continue to file relevant information in the docket as it becomes available. Further, some people may submit late comments. Accordingly, we recommend that you periodically check the Docket for new material. You can arrange with the docket to be notified when others file comments in the docket. See www.regulations.gov for more information.

List of Subjects in 49 CFR Part 595

Motor vehicle safety, Motor vehicles.

In consideration of the foregoing, we propose to amend 49 CFR part 595 to read as follows:

PART 595—MAKE INOPERATIVE EXEMPTIONS

1. The authority citation for part 595 continues to read as follows:

Authority: 49 U.S.C. 322, 30111, 30115, 30117, 30122 and 30166; delegation of authority at 49 CFR 1.95.

2. Amend § 595.7 by adding paragraph (c)(18) to read as follows:

§ 595.7 Requirements for vehicle modifications to accommodate people with disabilities.

* * * * *

(c) * * *

(18) S5.2(b) of 49 CFR 571.216a, in any case where the vehicle, after modification, meets the roof crush requirements in S4 of 49 CFR 571.220 when tested in accordance to S5 of 49 CFR 571.220.

* * * * *

Issued on: March 2, 2016.
R. Ryan Posten,
Associate Administrator for Rulemaking.

[FR Doc. 2016-05372 Filed 3-10-16; 8:45 am]

BILLING CODE 4910-59-P